DEPARTMENT OF THE TREASURY

Submission for OMB Review; Comment Request

April 1, 2013.

The Department of the Treasury will submit the following information collection request to the Office of Management and Budget (OMB) for review and clearance in accordance with the Paperwork Reduction Act of 1995, Public Law 104-13, on or after the date of publication of this notice.

DATES: Comments should be received on or before May 6, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-XXXX.

Type of Review: New Collection.

Title: Form 8957—Foreign Account Tax Compliance Act (FATCA) Registration.

Form: 8957

Abstract: Form 8957 is to be used by a foreign financial institution to apply for status as a foreign financial institution as defined in IRC 1471(b)(2). New Code Section 1471 provides that in the case of any withholdable payment to a foreign financial institution which does not meet the requirements of new Code section 1471(b), the withholding agent with respect to such payment shall deduct and withhold from such payment a tax equal to 30% of the amount of such payment. Form 8957 is to be used by a foreign financial institution to apply for status as a foreign financial institution as defined in IRC 1471(b)(2). The creation of this new form will result in an estimated burden increase of 260,000 responses and 2,116,400 estimated hours.

Affected Public: Private Sector: Businesses and other For-Profits.

Estimated Total Burden Hours: 2,116,400.

Robert Dahl,
Treasury PRA Clearance Officer.

[FR Doc. 2013-07839 Filed 4-3-13; 8:45 am]

BILLING CODE 4830-01-P